DEPARTMENT OF COMMERCE

National Oceanic and Atmospheric Administration

[RTID 0648-XA117]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold joint public meeting of the Council and the Atlantic States Marine Fisheries Commission (ASMFC).

DATES: The meeting will be held Wednesday, May 6, 2020. For agenda details, see SUPPLEMENTARY INFORMATION.

ADDRESSES: The meeting will be held via webinar at the following registration URL: https://attendee.gotowebinar.com/register/6204543422027821581, Webinar ID 918-539-707.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The proposed agenda is as follows, though time blocks are approximate based on the pace of discussion, and agenda items may be addressed out of order (changes will be noted on the Council's website when possible.)

Wednesday, May 6, 2020

10 a.m.-12 p.m.: Bluefish Allocation and Rebuilding Amendment (with ASMFC Bluefish Board)

• Review Public Comment Summary on the Bluefish Allocation and Rebuilding Amendment Public Information and Scoping Document

• Provide guidance to the Fishery Management Action Team for the Bluefish Allocation and Rebuilding Amendment

12 p.m.-1:15 p.m.: Lunch

1:15-3:15 p.m.: Summer Flounder, Scup, and Black Sea Bass Commercial/Recreational Allocation Amendment (with ASMFC Summer Flounder, Scup, and Black Sea Bass Board)

• Review Public Comment Summary from the Summer Flounder, Scup, and Black Sea Bass Commercial/Recreational Allocation Amendment Public Information and Scoping Document

• Provide guidance to the FMAT for the Summer Flounder, Scup, and Black Sea Bass Commercial/Recreational Allocation Amendment

Special Accommodations

The meeting is physically accessible to people with disabilities. Requests for sign language interpretation or other auxiliary aid should be directed to M. Jan Saunders, (302) 526-5251, at least 5 days prior to the meeting date.

Authority: 16 U.S.C. 1801 et seq.

Dated: April 13, 2020.
Tracey L. Thompson,
Acting Deputy Director, Office of Sustainable Fisheries, National Marine Fisheries Service.

[FR Doc. 2020-08048 Filed 4-15-20; 8:45 am]

BILLING CODE 3510-22-P